DEPARTMENT OF VETERANS AFFAIRS

[OMB Control No. 2900-0114]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 29, 2001.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0114.”

SUPPLEMENTARY INFORMATION:

Title: Statement of Marital Relationship, VA Form 21-4170.

OMB Control Number: 2900-0114.

Type of Review: Extension of a currently approved collection.

Abstract: VA Form 21-4170 is used to develop the evidence to determine a claimed common law marriage can be recognized by VA. Without this information, VA would have no means of determining the proper marital status of the veteran.

An agency may not conduct or sponsor, and a person is not required to respond to a collection of information unless it displays a currently valid OMB control number. The Federal Register notice with a 60-day comment period soliciting comments on this collection of information was published on August 14, 2001, at pages 42707-42708.

Affected Public: Individuals or households.

Estimated Annual Burden: 3,000 hours.

Estimated Average Burden Per Respondent: 30 minutes.

Frequency of Response: One time.

Estimated Number of Respondents: 6,000.

Send comments and recommendations concerning any aspect of the information collection to VA's OMB Desk Officer, OMB Human Resources and Housing Branch, New Executive Office Building, Room 10235, Washington, DC 20503 (202) 395-7316. Please refer to “OMB Control No. 2900-0114” in any correspondence.

Dated: October 16, 2001.
By direction of the Secretary:
Barbara H. Epps,
Management Analyst, Information Management Service.

[FR Doc. 01-27302 Filed 10-29-01; 8:45 am]

BILLING CODE 2320-01-M